FEDERAL COMMUNICATIONS COMMISSION

47 CFR Parts 73 and 76

[FCC 05-211]

Order Staying Effective Date, In the Matter of Children's Television Obligations of Digital Television Broadcasters

AGENCY: Federal Communications Commission.

ACTION: Final rule; stay of effectiveness.

SUMMARY: This document stays three sections of the CFR regarding the requirements for Internet Web site address displays in children's television programming and the core children's programming processing guideline for digital broadcasters in MM Docket 00-167, until 60 days after publication in the Federal Register of the Commission's order on reconsideration in that proceeding. These requirements were previously scheduled to become effective on January 1, 2006.

DATES: 47 CFR 73.670(b) and (c) and Note 1, § 73.671(e) and (f), and § 76.225(b) and (c) and Note 1 are stayed effective February 1, 2006, until further notice. The Commission will publish a document in the Federal Register announcing the lift of the stay.

ADDRESSES: Federal Communications Commission, 445 12th Street, SW., Washington, DC 20554.

FOR FURTHER INFORMATION CONTACT: Kim Matthews, Policy Division, Media Bureau, Federal Communications Commission, (202) 418-2120.

SUPPLEMENTARY INFORMATION: On September 9, 2004, the Commission adopted a Report and Order and Further Notice of Proposed Rule Making (“Order”) in MM Docket 00-167. The Order addresses matters related to two areas: The obligation of television licensees to provide educational programming for children and the requirement that television licensees protect children from excessive and inappropriate commercial messages. Some of the rules and policies adopted in the Order apply only to digital broadcasters while others apply to both analog and digital broadcasters as well as cable operators. Most of the rules adopted in the Order were scheduled to take effect on January 1, 2006.

A number of parties petitioned for Commission reconsideration of the Order. Those reconsideration petitions are now pending before the Commission. On September 26, 2005, Viacom, Inc. (Viacom), The Walt Disney Company (Disney), NBC Universal, Inc., and NBC Telemundo License Co. filed a Motion for Extension of Effective Date or, in the Alternative, Administrative Stay with the Commission requesting that the Commission stay the rules or delay their effective date until after the Commission acts on the petitions for reconsideration. In addition, in late September and early October, 2005, the Office of Communication of the United Church of Christ (UCC) and Viacom withdrew their participation in reconsideration petitions and filed separate petitions for judicial review of the Order. UCC filed a petition for review of the Order in the U.S. Court of Appeals for the Sixth Circuit on September 26, 2005. Viacom filed a petition for review of the Order in the U.S. Circuit Court of Appeals for the D.C. Circuit on October 3, 2005. Disney subsequently filed a petition for writ of mandamus with the D.C. Circuit requesting that the Commission be directed to act on the petitions for reconsideration or that the Court stay the rules until the Commission decides the reconsideration petitions. Viacom then also asked the D.C. Circuit to stay the rules until it resolved Viacom's petition for review. On November 16, 2005, the D.C. Circuit transferred both Viacom's petition and Disney's petition to the Sixth Circuit.

Representatives of the broadcast and cable industries and public interest groups interested in children's television issues have been meeting in an attempt to resolve their differences regarding the new rules that are the subject of the litigation. Those parties have now informed the Commission that they have reached an agreement on a recommendation to the Commission that, if adopted, would resolve their concerns with the Commission's rules. The parties' recommendation would maintain with modifications most of the rules adopted by the Commission to promote educational programming for children and to protect children from overcommercialization on television. The Commission will, of course, make an independent determination on the appropriate course of action on reconsideration. However, we greatly appreciate a joint recommendation from these previously adverse interests and will give their recommendation serious consideration. The parties have further recommended that the Commission should stay the effective date of the new rules until 60 days after publication in the Federal Register of the Commission's order on reconsideration, a course of action that would give the Commission the time to evaluate the parties' recommendation in the pending reconsideration proceeding and would permit the petitions for judicial review to be held in abeyance and the stay motions now pending before the Sixth Circuit to become moot. In light of that agreement and the issues raised in the pending petitions for reconsideration, we find that the public interest is served by delaying the effective date of the new rules to permit the Commission to act on the petitions for reconsideration and to afford broadcasters and cable operators additional time to come into compliance with the revised children's television requirements, as such requirements may be modified on reconsideration. The Commission will publish a document in the Federal Register announcing the lift of the stay.

Accordingly, we are hereby staying the effective date of newly adopted § 73.670(b) and (c) and Note 1, § 73.671(e) and (f) (referred to in the Report and Order and Further Notice of Proposed Rule Making in MM Docket No. 00-167, 19 FCC Rcd 22,943 (2004), as 47 CFR 73.671 Notes 3 and 4), and § 76.225(b) and (c) and Note 1 of the Commission's rules until further notice. We find for good cause that notice and comment are impracticable based on the imminent effective date, the measures that would be required by the industry to comply with the new rules, which may be modified on reconsideration, the broad-based agreement to the stay by children's television advocates and industry representatives, and the fact that we are only temporarily staying the effective date until we resolve the pending petitions for reconsideration.

Congressional Review Act. The Commission will not send a copy of this Order Staying Effective Date to Congress and the General Accounting Office (GAO) pursuant to the Congressional Review Act, see 5 U.S.C. 801(a)(1)(A), because the Commission is only staying the effective date of its rules and this action is not subject to the Congressional Review Act.

Paperwork Reduction. This Order Staying Effective Date does not contain new or modified information collection requirements subject to the Paperwork Reduction Act of 1995, Public Law 104-13. In addition, therefore, it does not contain any new or modified “information collection burden for small business concerns with fewer than 25 employees,” pursuant to the Small Business Paperwork Relief Act of 2002, Public Law 107-198, see 44 U.S.C. 3506(ca)(4).).

Accordingly, it is ordered that the effective date of 47 CFR 73.670(b) and (c) and Note 1, § 73.671(e) and (f), and § 76.225(b) and (c) and Note 1 as adopted in the Order in the above-captioned proceeding is stayed until further notice.

List of Subjects in 47 CFR Parts 73 and 76

Cable, Television.

Federal Communications Commission.
Marlene H. Dortch,
Secretary.

[FR Doc. 06-799 Filed 1-31-06; 8:45 am]

BILLING CODE 6712-01-P